DEPARTMENT OF LABOR

Employee Benefits Security Administration

Prohibited Transaction Exemption (PTE) 2004-01; Exemption Application No. D-11191; United States Steel and Carnegie Pension Fund, Located in Atlanta, GA

AGENCY: Employee Benefits Security Administration, Department of Labor (the Department).

ACTION: Notice of technical correction.

On January 5, 2004, the Department published PTE 2003-40 in the Federal Register at 69 FR 375. PTE 2003-40 permits the in kind contribution of certain timber rights (the Timber Rights) under two timber purchase and cutting agreements to The United States Steel Corporation Plan for Employee Pension Benefits (the Plan) by the United States Steel Corporation (US Steel), the Plan sponsor and a party in interest with respect to the Plan. The exemption also permits ancillary transactions between the Plan and US Steel arising from certain rights retained by US Steel related to the timberland on which the Timber Rights are based.

Due to two technical errors appearing in the final exemption, the Department is hereby making certain revisions to the document. First, on page 375 of the notice granting the final exemption, the prohibited transaction exemption number, contained in the bracketed text at the beginning of the document, has been redesignated as “[Prohibited Transaction Exemption 2004-01; * * *],” to reflect the correct publication year and document number. Second, on page 383 of the grant notice, the final paragraph is revised to read as follows to reflect the correct signature date: “Signed at Washington, DC, this 30th day of December, 2003.”

FOR FURTHER INFORMATION CONTACT: Ms. Silvia M. Quezada of the Department at (202) 693-8553. (This is not a toll-free number.)

Signed at Washington, DC, this 8th day of January, 2004.
Ivan L. Strasfeld,
Director of Exemption Determinations, Employee Benefits Security Administration, Department of Labor.

[FR Doc. 04-716 Filed 1-12-04; 8:45 am]

BILLING CODE 4510-29-P